DEPARTMENT OF AGRICULTURE

Food Safety and Inspection Service

[Docket No. FSIS-2015-0001]

Interagency Food Safety Analytics Collaboration (IFSAC): Meeting on Work to Improve Foodborne Illness Source Attribution Estimates for Salmonella, Escherichia coli O157, Listeria, and Campylobacter

AGENCY: Food Safety and Inspection Service, USDA.

ACTION: Notification of Public Meeting.

SUMMARY: The Food Safety and Inspection Service (FSIS), in collaboration with the Food and Drug Administration (FDA) and the Centers for Disease Control and Prevention (CDC), is hosting a public meeting to update stakeholders on IFSAC's work to improve foodborne illness source attribution. Specifically, IFSAC will report on work to develop harmonized foodborne illness source attribution estimates, as well as other analyses IFSAC has undertaken since its formation in 2011. This work can assist in the development of food safety strategies. FSIS, FDA and CDC are also soliciting input from stakeholders to assist in planning for future IFSAC endeavors.

DATES: The public meeting will be held on Tuesday, February 24, 2015, 8:30 a.m. to 5:00 p.m. EST.

ADDRESSES: The meeting will be held at the Jefferson Auditorium in the South Building, U.S. Department of Agriculture (USDA), 14th & Independence Avenue SW., Washington, DC 20250. The South Building is a Federal facility with security procedures. Attendance is free. Non-USDA employees must enter through the Wing 4 entrance on Independence Avenue. Attendees must be pre-registered for the meeting (and check-in onsite the day of the meeting) and show a valid photo ID to enter the building. Only registered attendees will be permitted to enter the building. For those unable to attend in person, a live Webcast of the meeting will be available.

FOR FURTHER INFORMATION CONTACT: For questions about registering for the meeting; to register by telephone; or to submit a notice of participation by mail, FAX, or email, please contact Courtney Treece, Planning Professionals Ltd., 1210 W. McDermott St., Suite 111, Allen, TX 75013, 704-258-4983, FAX: 469-854-6992, or email at ctreece@planningprofessionals.com. For general questions about the meeting, to request an opportunity to make oral public comments by February 9th, 2015; or for special accommodations due to a disability by February 9th, 2015, please contact Juanita Yates, Center for Food Safety and Applied Nutrition (HFS-009), Food and Drug Administration, 5100 Paint Branch Pkwy., College Park, MD 20740, 240-402-1731, or email at Juanita.yates@fda.hhs.gov. For logistical information about the meeting, please contact Edward Stoker, Office of Public Affairs and Consumer Education, FSIS at 202-720-4849 or at Edward.Stoker@fsis.usda.gov. For technical information, please contact Joanna Zablotsky Kufel, Office of Data Integration and Food Protection, FSIS, 202-690-6644, or email at Joanna.zablotsky-kufel@fsis.usda.gov.

SUPPLEMENTARY INFORMATION:

I. Background

To enhance the safety of our food, three Federal agencies—CDC, FDA, and FSIS—teamed up in 2011 to create the IFSAC. The goal of this collaboration is to improve coordination of Federal food safety analytic efforts and address cross-cutting priorities for food safety data collection, analysis and use. The current focus of IFSAC's activities is foodborne illness source attribution, defined as the process of estimating the most common food sources responsible for specific foodborne illnesses. Projects and studies conducted by IFSAC aim to identify foods that are primary sources of illnesses.

Federal agencies and food safety experts rely on attribution studies to influence strategic planning and risk-based decision-making, support development of regulations, and conduct risk assessments, among other activities. By bringing together data from CDC, FDA, FSIS, and other sources, and by developing sound analytical methods, IFSAC can improve estimates of the sources of foodborne illness.

Since its start in 2011, IFSAC has worked jointly on a number of analytic projects with the overall objective of advancing knowledge, methods, and data associated with foodborne illness attribution. In January 2012, IFSAC held its first public meeting and presented the IFSAC Strategic Plan, which included a variety of short and long-term goals, along with information about current and future projects. Please go to the following Web page for more information on the previous public meeting: http://www.fsis.usda.gov/wps/portal/fsis/newsroom/meetings/past-meetings/past-meetings-2012#IFSAC .

In addition to the public meeting in 2012, IFSAC has also hosted two public webinars on results of existing projects, materials from which are available on the IFSAC public Web site at: http://www.cdc.gov/foodsafety/ifsac/index.html. In addition to material from IFSAC-hosted webinars, the IFSAC Web site serves as a venue to share information with the public on IFSAC activities.

At this public meeting, IFSAC will provide updates on completed and ongoing projects, focusing particularly on a key project where IFSAC developed, for the first time, a single approach to producing harmonized foodborne illness source attribution estimates from outbreak data for Salmonella, E. coli O157, Listeria, and Campylobacter. IFSAC will provide an overview of the projects' approach, analytical methods, results, and the utility of estimated attribution.

II. Registration and Meeting Materials

There is no fee to register for the public meeting, but pre-registration is mandatory for participants attending both in-person and via webcast. On-site registration will not be permitted. Early registration is recommended as space is limited. All attendees (in-person and via webcast) must register online at http://www.fsis.usda.gov/meetings by February 17, 2015. A Webcast link will be provided to participants when meeting registration is completed. Meeting materials will be posted before the public meeting at http://www.fsis.usda.gov/meetings and http://www.cdc.gov/foodsafety/ifsac/index.html.

III. Public Comments and Participation in Meeting

Public Comments: Oral Comments

Stakeholders will have an opportunity to provide oral comments during the public meeting. Due to the anticipated high level of interest in the opportunity to make public comments and the limited time available to do so, IFSAC/FSIS would like to maximize the number of individuals who provide oral comments at the meeting and will do its best to accommodate all persons who wish to express an opinion. IFSAC/FSIS encourages persons and groups who have similar interests to consolidate their information for presentation by a single representative.

After reviewing the oral presentation requests, IFSAC/FSIS will notify each participant before the meeting if their presentation request is granted, and, if so, the amount of time they will have to present and remind them of the presentation format (e.g., 3-minute oral presentation without visual media). There will not be an opportunity to display materials such as slide shows, videos, or other media during the meeting. Requests to provide oral presentation on the day of the meeting will only be granted if time permits. Interested persons and organizations who desire an opportunity to make an oral presentation and will attend the meeting in-person must register in advance by February 9, 2015, by contacting Juanita Yates (see contact information in “Further Information” section above) with your name, title, firm name, address, and phone and FAX numbers as well as the full text, comprehensive outline, or summary of your oral presentation. Interested persons and organizations who will attend the meeting via webcast must submit written comments as a telephone conference line will not be available for the meeting.

Public Comments: Written Comments

Any stakeholders wishing to submit written comments before or after the meeting can do so on or before April 30, 2015, using any of the following methods: Electronically—go http://www.regulations.gov and follow the online instructions for submitting comments; Mail, including CD-ROMS—send to Docket Clerk, USDA, FSIS Docket Room, 1400 Independence Avenue SW., Patriots Plaza III, Mailstop 3782, Room 8-163A, Washington, DC 20250-3700; Hand- or courier-delivered items—deliver to the Docket Clerk, USDA, FSIS Docket Room at Patriots Plaza III, 355 E Street SW., Room 8-164, Washington, DC 20250, between 8:30 a.m. and 4:30 p.m., Monday through Friday.

All items submitted by mail or electronic mail must include the Agency name and docket number: FSIS- 2015-0001. Comments received in response to this docket will be made available for public inspection and posted without change, including any personal information, to http://www.regulations.gov. For access to background documents or comments received, go to the FSIS Docket Room at Patriots Plaza III, 355 E Street SW., Room 8-164, Washington, DC 20250, between 8:30 a.m. and 4:30 p.m., Monday through Friday.

Question-and-Answer Periods

Time has been allotted for audience questions after most presentations delivered during the meeting. In-person participants will have the opportunity to ask questions via a microphone in the auditorium, but due to the lack of a conference telephone line, webcast participants will be required to submit written questions into the virtual meeting tool and these questions will be read aloud by meeting logistics managers.

IV. Transcripts and Video Recording

The transcript of the proceedings from the public meeting will become part of the administrative record. As soon as the meeting transcripts are available, they will be accessible on the FSIS Web site at http://www.fsis.usda.gov/wps/portal/fsis/newsroom/meetings and the IFSAC Web site at http://www.cdc.gov/foodsafety/ifsac/index.html. The transcripts may also be viewed at the FSIS Docket Room at the address listed above. Additionally, IFSAC will video record the public meeting. Once the video is available, it can be accessed at the FSIS Web site at http://www.fsis.usda.gov/wps/portal/fsis/newsroom/meetings and the IFSAC Web site at http://www.cdc.gov/foodsafety/ifsac/index.html.

Additional Public Notification

Public awareness of all segments of rulemaking and policy development is important. Consequently, FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail:

U.S. Department of Agriculture, Director, Office of Adjudication, 1400 Independence Avenue SW., Washington, DC 20250-9410.

Fax: (202) 690-7442.

Email: program.intake@usda.gov.

Persons with disabilities who require alternative means for communication (Braille, large print, audiotape, etc.), should contact USDA's TARGET Center at (202) 720-2600 (voice and TDD).

Done at Washington, DC, on: January 23, 2015.
Alfred V. Almanza,
Acting Administrator.

[FR Doc. 2015-01566 Filed 1-27-15; 8:45 am]

BILLING CODE 3410-DM-P